Proclamation 9283 of May 15, 2015

Armed Forces Day, 2015

By the President of the United States of America

A Proclamation

At the heart of our Nation is the idea that we are each endowed with certain unalienable rights. We hold this truth to be self-evident, but from the moment a small band of patriots first came together to declare independence, we have never believed it to be self-executing. From Lexington and Concord to Iraq and Afghanistan, brave women and men have fought to defend the blessings of liberty and freedom and to protect the way of life we cherish. On Armed Forces Day, we salute the unbroken chain of Soldiers, Sailors, Airmen, Marines, and Coast Guardsmen who have continuously secured and renewed the promise of our Nation.

This year, as we celebrate the 70th anniversary of the end of World War II, we honor the generation that triumphed over tyranny and laid a foundation for peace around the world. In the face of oppression, more than 16 million Americans left everything they knew and everyone they loved to fight for freedom far from home. Today, this legacy of extraordinary service is carried forward by patriots who protect the same liberties our parents and grandparents fought for. Year after year, tour after tour, the members of our Armed Forces serve with honor and distinction. Their sacrifice makes our Nation more free and more safe, and in their example, we see the best of America.

As we pay tribute to today's servicemen and women, we acknowledge the obligations we have to all who serve in our name. This sacred trust requires that we fulfill our promise and guarantee that these patriots, and the families who serve alongside them, have all the resources and benefits they have earned and deserve—supporting them as they carry out their missions and ensuring they get their shot at the American dream they helped to defend. As a Nation, we are called to recognize the enormous debt of gratitude we owe the members of our Armed Forces, and we must never forget those who laid down their lives to safeguard our freedoms, or their loved ones who carry their legacies forward.

Today and every day, let us celebrate the women and men who make our military the greatest fighting force the world has ever known. As a grateful Nation, let us show our appreciation by working to uphold the values they protect every day and by continuing to strive to build a country worthy of their enormous sacrifice.

NOW, THEREFORE, I, BARACK OBAMA, President of the United States of America, and Commander in Chief of the Armed Forces of the United States, continuing the precedent of my predecessors in office, do hereby proclaim the third Saturday of each May as Armed Forces Day. I direct the Secretary of Defense on behalf of the Army, Navy, Air Force, and Marine Corps, and the Secretary of Homeland Security on behalf of the Coast Guard, to plan for appropriate observances each year, with the Secretary of Defense responsible for encouraging the participation and cooperation of civil authorities and private citizens.

I invite the Governors of the United States and its Territories, and appropriate officials of all units of government, to provide for the observance of Armed Forces Day within their jurisdiction each year in an appropriate manner designed to increase public understanding and appreciation of the Armed Forces of the United States. I also invite veterans, civic leaders, and organizations to join in the observance of Armed Forces Day.

Finally, I call upon all Americans to display the flag of the United States at their homes on Armed Forces Day, and I urge citizens to learn more about military service by attending and participating in the local observances of the day. I also encourage Americans to volunteer at organizations that provide support to our troops and their families.

Proclamation 9129 of May 16, 2014, is hereby superseded.

IN WITNESS WHEREOF, I have hereunto set my hand this fifteenth day of May, in the year of our Lord two thousand fifteen, and of the Independence of the United States of America the two hundred and thirty-ninth.

[FR Doc. 2015-12446

Filed 5-19-15; 11:15 am]

Billing code 3295-F5